DEPARTMENT OF THE INTERIOR

Bureau of Land Management

[WY-930-1610-DR]

Notice of Availability of Record of Decision for the Pinedale Resource Management Plan/Environmental Impact Statement

AGENCY: Bureau of Land Management, Interior.

ACTION: Notice of Availability.

SUMMARY: The Bureau of Land Management (BLM) announces the availability of the Record of Decision (ROD)/Approved Resource Management Plan (RMP) for the Pinedale Field Office Planning Area located in Sublette and Lincoln Counties, Wyoming. The Wyoming State Director signed the ROD on November 27, 2008, which constitutes the final decision of the BLM and makes the Approved RMP effective immediately. The Pinedale RMP provides the management direction for the Federal lands and resources in the Pinedale Field Office Planning Area. The Approved Pinedale RMP revises and replaces the 1988 Pinedale RMP.

ADDRESSES: Copies of the ROD/Approved RMP are available upon request from the following locations:

• Bureau of Land Management, Pinedale Field Office, 1625 W. Pine Street, Pinedale, Wyoming 82941

• Bureau of Land Management, Wyoming State Office, 5353 Yellowstone Road, Cheyenne, Wyoming 82003

or via the Internet at http://www.blm.gov/rmp/wy/pinedale/documents.html.

FOR FURTHER INFORMATION CONTACT: For further information, contact Chuck Otto, Field Manager, or Kellie Roadifer, Pinedale RMP team leader, at the Pinedale Field Office, 1625 W. Pine Street, P.O. Box 768, Pinedale, Wyoming 82941, or by telephone at (307) 367-5300.

SUPPLEMENTARY INFORMATION: The Pinedale RMP was revised collaboratively with the State of Wyoming, county and municipal governments and agencies, and Tribal Governments. The Pinedale RMP Planning Area includes approximately 922,880 acres of BLM-administered public lands and 1,199,280 acres of Federal mineral estate under Federal, State, and Private surface ownership.

The Approved Pinedale RMP describes the goals, objectives, and management actions to meet desired resource conditions for upland and riparian vegetation, recreation, grazing management, cultural and visual resources, and wildlife habitat, including habitat for threatened and endangered species. The Approved RMP also describes the actions and anticipated levels of development for fluid minerals resources, and locatable minerals in the Pinedale Field Office Planning Area.

The agency-preferred alternative (Alternative 4, in the Proposed RMP/Final Environmental Impact Statement (EIS), with minor modifications) is the selected alternative for the Approved RMP. After the publication of the Proposed RMP and Final EIS on August 22, 2008, 13 protests were received. The Governor of Wyoming also identified issues during the governor's consistency review. As the result of protest and consistency review, minor modifications were made to the Proposed RMP to address these issues.

The description of land use restrictions in Visual Resource Management (VRM) classes was clarified to indicate the application of land use restrictions based on VRM class is not made at the RMP level; the application of mitigation guidelines and operating standards, which are included in Appendix 3, was clarified to have possible application to exploratory oil and gas drilling; Appendix 3 was updated to include an operating standard regarding the control of water pits to limit the spread of West Nile virus; a cultural resource management action was removed to clarify that contributing segments of the National Historic Trails within the Pinedale Planning Area were identified; a statement included in Table 2-25 was corrected to present the appropriate management action regarding restrictions on high-profile structures near sage-grouse leks; the maps showing special designations and management areas were reprinted on a larger scale to improve readability; and typographical errors were corrected in Appendix 3 and the Glossary.

No inconsistencies were identified between the RMP and State or local plans. The governor's consistency review identified four issues that are further clarified in the ROD: (1) Revision of the definition of “avoidance area” in the Glossary in order to clarify that right-of-way applications would be allowed in and through the Pinedale Field Office Planning Area; (2) elaboration on the Section 390 Categorical Exclusions (CX) under the Energy Policy Act of 2005; (3) elucidation of the potential need for future air quality monitoring and modeling; and (4) inclusion of a reference to the Wyoming Executive Order 2008-2 regarding greater sage-grouse core area protection.

Jamie E. Connell,
Acting Associate State Director.

[FR Doc. E9-99 Filed 1-7-09; 8:45 am]

BILLING CODE 4310-22-P